ENVIRONMENTAL PROTECTION AGENCY

[FRL-6866-9]

Proposed CERCLA Prospective Purchaser Agreement for the Pullman/Liquid Dynamics Site

AGENCY: Environmental Protection Agency (EPA).

ACTION: Proposal of CERCLA prospective purchaser agreement for the Pullman/Liquid Dynamics Site.

SUMMARY: In accordance with the Comprehensive Environmental Response, Compensation, and Liability Act of 1980 (“CERCLA”), 42 U.S.C. 9601 et seq., as amended by the Superfund Amendments and Reauthorization Act of 1986 (“SARA”), Public Law 99-499, notice is hereby given that a proposed prospective purchaser agreement (“PPA”) for the Pullman/Liquid Dynamics Site (“Site”) located on the South Side of Chicago, has been executed by the Salem Baptist Church (“Church”). The proposed PPA has been submitted to the Attorney General for approval. The proposed PPA would resolve certain potential claims of the United States under sections 106 and 107 of CERCLA, 42 U.S.C. 9606 and 9607, against the Church. Under the terms of the PPA, the Church would agree to purchase, remediate and redevelop a substantial portion of the Site in return for a covenant not to sue for past response costs under CERCLA and a release from future liability for existing contamination. The Site is not on the NPL. No further response activities at the Site are anticipated at this time.

DATES: Comments on the proposed PPA must be received by U.S. EPA on or before October 16, 2000.

ADDRESSES: A copy of the proposed PPA is available for review at U.S. EPA, Region 5, 77 West Jackson Boulevard, Chicago, Illinois 60604. Please contact Reginald A. Pallesen at (312) 886-0555, prior to visiting the Region 5 office. Comments on the proposed PPA should be addressed to Reginald A. Pallesen, Office of Regional Counsel (C-14J), U.S. EPA, Region 5, 77 West Jackson Boulevard, Chicago, Illinois 60604.

FOR FURTHER INFORMATION CONTACT: Reginald A. Pallesen, Associate Regional Counsel, at (312) 886-0555. A 30-day period, commencing on the date of publication of this notice, is open for comments on the proposed PPA. Comments should be sent to the addressee identified in this notice.

William E. Muno,
Director, Superfund Division, U.S. Environmental Protection Agency, Region 5.

[FR Doc. 00-23652 Filed 9-13-00; 8:45 am]

BILLING CODE 6560-50-P